DEPARTMENT OF ENERGY

Federal Energy Regulatory Commission

[Docket No. EG01-317-000, et al.]

West Valley Generation, LLC, et al. Electric Rate and Corporate Regulation Filings

September 21 2001.

Take notice that the following filings have been made with the Commission:

1. West Valley Generation LLC

[Docket No. EG01-317-000]

Take notice that on September 19, 2001, West Valley Generation LLC, 830 NE Holladay Street, Suite 250, Portland, Oregon 97232, filed with the Federal Energy Regulatory Commission (Commission) an application for determination of exempt wholesale generator status pursuant to Part 365 of the Commission's regulations. The applicant is a limited liability company organized under the laws of the State of Oregon and a wholly owned direct subsidiary of PacifiCorp Power Marketing, Inc., an Oregon corporation (PPM). PPM is a wholly owned direct subsidiary of PacifiCorp Holdings, Inc., a Delaware corporation with general offices in Portland, Oregon (PHI). PHI is a wholly owned direct subsidiary of NA General Partnership, a Nevada general partnership (NAGP). NAGP's two partners are Scottish Power NA 1 Limited and Scottish Power NA 2 Limited. Scottish Power NA 1 Limited and Scottish Power NA 2 Limited are private limited companies incorporated in Scotland and are wholly owned subsidiaries of ScottishPower plc, a public limited corporation organized under the laws of Scotland.

Applicant will own a gas-fired, simple cycle combustion turbine project located in West Valley City, Utah (the Facility). The initial nominal capacity of the Facility is 80MW and the maximum nominal capacity of the Facility will eventually be 200MW. The point of delivery is PacifiCorp's 138kV Terminal-Oquirrh transmission line. The applicant will be engaged directly and exclusively in the business of owning an eligible facility and selling the electric energy from the Facility to PPM at market-based rates. Copies of the application have been served upon the Public Service Commission of Utah, the “Affected State commission,” and the Securities and Exchange Commission.

Comment date: October 12, 2001, in accordance with Standard Paragraph E at the end of this notice. The Commission will limit its consideration of comments to those that concern the adequacy or accuracy of the application.

2. Klamath Energy LLC

[Docket No. EG01-318-000]

Take notice that on September 19, 2001, Klamath Energy LLC, 830 NE Holladay Street, Suite 250, Portland, Oregon 97232, filed with the Federal Energy Regulatory Commission (Commission) an application for determination of exempt wholesale generator status pursuant to Part 365 of the Commission's regulations.

The applicant is a limited liability company organized under the laws of the State of Oregon and a wholly owned direct subsidiary of PacifiCorp Power Marketing, Inc., an Oregon corporation (PPM). PPM is a wholly owned direct subsidiary of PacifiCorp Holdings, Inc., a Delaware corporation with general offices in Portland, Oregon (PHI). PHI is a wholly owned direct subsidiary of NA General Partnership, a Nevada general partnership (NAGP). NAGP's two partners are Scottish Power NA 1 Limited and Scottish Power NA 2 Limited. Scottish Power NA 1 Limited and Scottish Power NA 2 Limited are private limited companies incorporated in Scotland and are wholly owned subsidiaries of ScottishPower plc, a public limited corporation organized under the laws of Scotland.

The Facility consists of a gas-fired, simple cycle combustion turbine project located outside Klamath Falls in Klamath County, Oregon (the Facility). The Facility will have a maximum net electrical capacity of 100 MW. The point of delivery is the point at which the Facility interconnects with PacifiCorp's Meridian-Captain Jack 500kV line.

The applicant will be engaged directly and exclusively in the business of owning an eligible facility and selling the electric energy from the Facility to PPM at market-based rates.

Copies of the application have been served upon the Oregon Public Utility Commission, the “Affected State commission,” and the Securities and Exchange Commission.

Comment date: October 12, 2001, in accordance with Standard Paragraph E at the end of this notice. The Commission will limit its consideration of comments to those that concern the adequacy or accuracy of the application.

3. Broad River OL-1, LLC

[Docket No. EG01-319-000]

Take notice that on September 19, 2001, Broad River OL-1, LLC (Broad River OL-1) filed with the Federal Energy Regulatory Commission (Commission) an application for determination of exempt wholesale generator status pursuant to Part 365 of the Commission's regulations.

Broad River OL-1 is a Delaware limited liability company, which will purchase and hold an undivided ownership interest, as owner lessor, in an 850 MW natural gas fired, single cycle generating facility, located in Cherokee County, South Carolina, for the benefit of SBR-OP-1, LLC, as owner participant. Broad River OL-1 proposes to satisfy the requirement of selling electric energy at wholesale by sub-leasing an undivided interest in the facility to Broad River Energy, LLC, which will sell the output of the facility at wholesale.

Comment date: October 12, 2001, in accordance with Standard Paragraph E at the end of this notice. The Commission will limit its consideration of comments to those that concern the adequacy or accuracy of the application.

4. South Point OL-1, LLC

[Docket No. EG01-320-000]

Take notice that on September 19, 2001, South Point OL-1, LLC (South Point OL-1) filed with the Federal Energy Regulatory Commission (Commission) an application for determination of exempt wholesale generator status pursuant to Part 365 of the Commission's regulations.

South Point OL-1 is a Delaware limited liability company, which will purchase and hold an undivided ownership interest, as owner lessor, in a 530 MW natural gas fired, combined cycle generating facility, located in Mohave County, Arizona, for the benefit of SBR-OP-1, LLC, as owner participant. South Point OL-1 proposes to satisfy the requirement of selling electric energy at wholesale by leasing an undivided interest in the facility to South Point Energy Center, LLC, which will sell the output of the facility at wholesale.

Comment date: October 12, 2001, in accordance with Standard Paragraph E at the end of this notice. The Commission will limit its consideration of comments to those that concern the adequacy or accuracy of the application.

5. South Point OL-2, LLC

[Docket No. EG01-321-000]

Take notice that on September 19, 2001, South Point OL-2, LLC (South Point OL-2) filed with the Federal Energy Regulatory Commission (Commission) an application for determination of exempt wholesale generator status pursuant to Part 365 of the Commission's regulations.

South Point OL-2 is a Delaware limited liability company, which will purchase and hold an undivided ownership interest, as owner lessor, in a 530 MW natural gas fired, combined cycle generating facility, located in Mohave County, Arizona, for the benefit of SBR-OP-2, LLC, as owner participant. South Point OL-2 proposes to satisfy the requirement of selling electric energy at wholesale by leasing an undivided interest in the facility to South Point Energy Center, LLC, which will sell the output of the facility at wholesale.

Comment date: October 12, 2001, in accordance with Standard Paragraph E at the end of this notice. The Commission will limit its consideration of comments to those that concern the adequacy or accuracy of the application.

6. South Point OL-3, LLC

[Docket No. EG01-322-000]

Take notice that on September 19, 2001, South Point OL-3, LLC (South Point OL-3) filed with the Federal Energy Regulatory Commission (Commission) an application for determination of exempt wholesale generator status pursuant to Part 365 of the Commission's regulations.

South Point OL-3 is a Delaware limited liability company, which will purchase and hold an undivided ownership interest, as owner lessor, in a 530 MW natural gas fired, combined cycle generating facility, located in Mohave County, Arizona, for the benefit of SBR-OP-3, LLC, as owner participant. South Point OL-3 proposes to satisfy the requirement of selling electric energy at wholesale by leasing an undivided interest in the facility to South Point Energy Center, LLC, which will sell the output of the facility at wholesale.

Comment date: October 12, 2001, in accordance with Standard Paragraph E at the end of this notice. The Commission will limit its consideration of comments to those that concern the adequacy or accuracy of the application.

7. South Point OL-4, LLC

[Docket No. EG01-323-000]

Take notice that on September 19, 2001, South Point OL-4, LLC (South Point OL-4) filed with the Federal Energy Regulatory Commission (Commission) an application for determination of exempt wholesale generator status pursuant to Part 365 of the Commission's regulations.

South Point OL-4 is a Delaware limited liability company, which will purchase and hold an undivided ownership interest, as owner lessor, in a 530 MW natural gas fired, combined cycle generating facility, located in Mohave County, Arizona, for the benefit of SBR-OP-4, LLC, as owner participant. South Point OL-4 proposes to satisfy the requirement of selling electric energy at wholesale by leasing an undivided interest in the facility to South Point Energy Center, LLC, which will sell the output of the facility at wholesale.

Comment date: October 12, 2001, in accordance with Standard Paragraph E at the end of this notice. The Commission will limit its consideration of comments to those that concern the adequacy or accuracy of the application.

8. RockGen OL-1, LLC

[Docket No. EG01-324-000]

Take notice that on September 19, 2001, RockGen OL-1, LLC (RockGen OL-1) filed with the Federal Energy Regulatory Commission (Commission) an application for determination of exempt wholesale generator status pursuant to Part 365 of the Commission's regulations.

RockGen OL-1 is a Wisconsin limited liability company, which will purchase and hold an undivided ownership interest, as owner lessor, in a 525 MW natural gas fired, single cycle generating facility, located in Christiana, Wisconsin, for the benefit of SBR-OP-1, LLC, as owner participant. RockGen OL-1 proposes to satisfy the requirement of selling electric energy at wholesale by leasing an undivided interest in the facility to RockGen Energy, LLC, which will sell the output of the facility at wholesale.

Comment date: October 12, 2001, in accordance with Standard Paragraph E at the end of this notice. The Commission will limit its consideration of comments to those that concern the adequacy or accuracy of the application.

9. RockGen OL-2, LLC

[Docket No. EG01-325-000]

Take notice that on September 19, 2001, RockGen OL-2, LLC (RockGen OL-2) filed with the Federal Energy Regulatory Commission (Commission) an application for determination of exempt wholesale generator status pursuant to Part 365 of the Commission's regulations.

RockGen OL-2 is a Wisconsin limited liability company, which will purchase and hold an undivided ownership interest, as owner lessor, in a 525 MW natural gas fired, single cycle generating facility, located in Christiana, Wisconsin, for the benefit of SBR-OP-2, LLC, as owner participant. RockGen OL-2 proposes to satisfy the requirement of selling electric energy at wholesale by leasing an undivided interest in the facility to RockGen Energy, LLC, which will sell the output of the facility at wholesale.

Comment date: October 12, 2001, in accordance with Standard Paragraph E at the end of this notice. The Commission will limit its consideration of comments to those that concern the adequacy or accuracy of the application.

10. RockGen OL-3, LLC

[Docket No. EG01-326-000]

Take notice that on September 19, 2001, RockGen OL-3, LLC (RockGen OL-3) filed with the Federal Energy Regulatory Commission (Commission) an application for determination of exempt wholesale generator status pursuant to Part 365 of the Commission's regulations.

RockGen OL-3 is a Wisconsin limited liability company, which will purchase and hold an undivided ownership interest, as owner lessor, in a 525 MW natural gas fired, single cycle generating facility, located in Christiana, Wisconsin, for the benefit of SBR-OP-3, LLC, as owner participant. RockGen OL-3 proposes to satisfy the requirement of selling electric energy at wholesale by leasing an undivided interest in the facility to RockGen Energy, LLC, which will sell the output of the facility at wholesale.

Comment date: October 12, 2001, in accordance with Standard Paragraph E at the end of this notice. The Commission will limit its consideration of comments to those that concern the adequacy or accuracy of the application.

11. RockGen OL-4, LLC

[Docket No. EG01-327-000]

Take notice that on September 19, 2001, RockGen OL-4, LLC (RockGen OL-4”) filed with the Federal Energy Regulatory Commission (Commission) an application for determination of exempt wholesale generator status pursuant to Part 365 of the Commission's regulations.

RockGen OL-4 is a Wisconsin limited liability company, which will purchase and hold an undivided ownership interest, as owner lessor, in a 525 MW natural gas fired, single cycle generating facility, located in Christiana, Wisconsin, for the benefit of SBR-OP-4, LLC, as owner participant. RockGen OL-4 proposes to satisfy the requirement of selling electric energy at wholesale by leasing an undivided interest in the facility to RockGen Energy, LLC, which will sell the output of the facility at wholesale.

Comment date: October 12, 2001, in accordance with Standard Paragraph E at the end of this notice. The Commission will limit its consideration of comments to those that concern the adequacy or accuracy of the application.

12. Broad River OL-2, LLC

[Docket No. EG01-328-000]

Take notice that on September 19, 2001, Broad River OL-2, LLC (Broad River OL-2) filed with the Federal Energy Regulatory Commission (Commission) an application for determination of exempt wholesale generator status pursuant to Part 365 of the Commission's regulations.

Broad River OL-2 is a Delaware limited liability company, which will purchase and hold an undivided ownership interest, as owner lessor, in an 850 MW natural gas fired, single cycle generating facility, located in Cherokee County, South Carolina, for the benefit of SBR-OP-2, LLC, as owner participant. Broad River OL-2 proposes to satisfy the requirement of selling electric energy at wholesale by sub-leasing an undivided interest in the facility to Broad River Energy, LLC, which will sell the output of the facility at wholesale.

Comment date: October 12, 2001, in accordance with Standard Paragraph E at the end of this notice. The Commission will limit its consideration of comments to those that concern the adequacy or accuracy of the application.

13. Broad River OL-3, LLC

[Docket No. EG01-329-000]

Take notice that on September 19, 2001, Broad River OL-3, LLC (Broad River OL-3) filed with the Federal Energy Regulatory Commission (Commission) an application for determination of exempt wholesale generator status pursuant to Part 365 of the Commission's regulations.

Broad River OL-3, is a Delaware limited liability company, which will purchase and hold an undivided ownership interest, as owner lessor, in an 850 MW natural gas fired, single cycle generating facility, located in Cherokee County, South Carolina, for the benefit of SBR-OP-3, LLC, as owner participant. Broad River OL-3 proposes to satisfy the requirement of selling electric energy at wholesale by sub-leasing an undivided interest in the facility to Broad River Energy, LLC, which will sell the output of the facility at wholesale.

Comment date: October 12, 2001, in accordance with Standard Paragraph E at the end of this notice. The Commission will limit its consideration of comments to those that concern the adequacy or accuracy of the application.

14. Broad River OL-4, LLC

[Docket No. EG01-330-000]

Take notice that on September 19, 2001, Broad River OL-4, LLC (Broad River OL-4) filed with the Federal Energy Regulatory Commission (Commission) an application for determination of exempt wholesale generator status pursuant to Part 365 of the Commission's regulations.

Broad River OL-4 is a Delaware limited liability company, which will purchase and hold an undivided ownership interest, as owner lessor, in an 850 MW natural gas fired, single cycle generating facility, located in Cherokee County, South Carolina, for the benefit of SBR-OP-4, LLC, as owner participant. Broad River OL-4 proposes to satisfy the requirement of selling electric energy at wholesale by sub-leasing an undivided interest in the facility to Broad River Energy, LLC, which will sell the output of the facility at wholesale.

Comment date: October 12, 2001, in accordance with Standard Paragraph E at the end of this notice. The Commission will limit its consideration of comments to those that concern the adequacy or accuracy of the application.

15. Michigan Electric Transmission Company

[Docket Nos. ER01-2126-002 and ER01-2375-002]

Take notice that on September 19, 2001, Consumers Energy Company (Consumers) tendered for filing the following Service Agreements under its FERC Electric Tariff No. 1 in compliance with the August 20, 2001 order issued in these proceedings:

Substitute Service Agreement Nos. 24 and 25.

The Service Agreements are to have effective dates of April 27, 2001, and June 21, 2001, respectively.

Copies of the filing were served upon those on the official service lists in these proceedings.

Comment date: October 10, 2001, in accordance with Standard Paragraph E at the end of this notice.

16. San Diego Gas & Electric Company

[Docket No. ER01-3074-000]

Take notice that on September 18, 2001, San Diego Gas & Electric Company (SDG&E) tendered for filing its limited section 205 Application for Approval of Supplemental Surcharge Transmission Rate and Applicable Wholesale Transmission Services. Through this filing, SDG&E seeks the recovery of costs related to the upgrade of its 230kV transmission line connecting SDG&E's Imperial Valley Substation to the system of Mexico's Comision Federal de Electricidad (CFE) at the international border. SDG&E states in its application that it has accelerated this upgrade in order to provide increased reliability to the grid and to relieve existing constraints on its transmission system, and therefore qualifies for the ratemaking incentives outlined in the Commission's Orders dated May 16, 2001 and July 27, 2001 in dockets EL01-47-000 and EL01-47-001.

SDG&E requests an effective date of November 1, 2001 for the Supplemental Surcharge Rate. The rate and revenue impact of this rate will be passed on to California Independent System Operator (ISO) high voltage service and other Participating Transmission Owners based upon the Transmission Access Charges as described in Amendment 27 and 34 of the ISO Tariff. That is, on January 1, 2002 the ISO will incorporate the IV-La Rosita high voltage revenue requirement to adjust its High Voltage Wheeling Access Charge and its Transition Charges, which charges or credits each Participating Transmission Owner High Voltage Transmission revenues.

Comment date: October 9, 2001, in accordance with Standard Paragraph E at the end of this notice.

17. Michigan Electric Transmission Company

[Docket No. ER01-3075-000]

Take notice that on September 17, 2001, Michigan Electric Transmission Company (Michigan Transco) tendered for filing a number of revised and original tariff sheets as part of the pro forma Generator Interconnection and Operating Agreement (GIOA) which is part of Attachment J of Michigan Transco's FERC Electric Tariff No. 1. Most of the changes are to increase consistency among Michigan Transco's GIOAs, as encouraged by Michigan Transco, 96 FERC &61,214 (2001). The sheets filed are:

First Revised Sheet Nos. 126, 133, 134, 136, 137, 139, 140, 143, 144, 145, 154, 156, 167 and 168 and Original Sheet Nos. 137A, 140A, and 145A.

The sheets are to have an effective date of September 17, 2001.

Copies of the tariff sheets were served upon the Michigan Public Service Commission.

Comment date: October 9, 2001, in accordance with Standard Paragraph E at the end of this notice.

18. Allegheny Energy Supply Company, LLC

[Docket No. ER01-3076-000]

Take notice that on September 19, 2001, Allegheny Energy Supply Company, LLC (Allegheny Energy Supply) filed Service Agreement No. 149 to add one new Customer to the Market Rate Tariff under which Allegheny Energy Supply offers generation services.

Allegheny Energy Supply requests an effective date of August 27, 2001 for Central Illinois Light Company.

Copies of the filing have been provided to all parties of record.

Comment date: October 10, 2001, in accordance with Standard Paragraph E at the end of this notice.

19. Consumers Energy Company

[Docket No. ES00-27-001]

Take notice that on September 18, 2001, Consumers Energy Company submitted an amendment to its original application in this proceeding, pursuant to section 204 of the Federal Power Act. The amendment seeks authorization to issue up to an additional $1 billion of short-term securities (up to an additional $500 million outstanding at any one time for general corporate purposes and up to an additional $500 million outstanding at any one time of first mortgage bonds to be issued solely as security for other short-term issuances.)

Comment date: October 10, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24169 Filed 9-26-01; 8:45 am]

BILLING CODE 6717-01-P